DEPARTMENT OF THE INTERIOR

Bureau of Land Management

[MT-924-1430-HN-003E; MTM 88487, MTM 88479, MTM 89430]

Notice of Intent To Amend the Powder River Resource Area, Judith-Valley-Phillips, and West HiLine Resource Management Plans; Chouteau, Blaine, Rosebud, and Valley Counties; MT

AGENCY: Bureau of Land Management, Interior.

ACTION: Notice.

SUMMARY: Notice is hereby given that the Bureau of Land Management (BLM) will amend the Judith-Valley-Phillips Resource Management Plan (RMP), the West HiLine RMP, and the Powder River Resource Area RMP with respect to management of public lands in Blaine, Chouteau, Rosebud, and Valley Counties. The BLM proposes to utilize 2,121.54 acres of Federal surface estate in the aforementioned counties, for which an RMP amendment is needed, to assist in the completion of Phase 4 of the Crow Boundary Settlement Act Land Exchange. These Federal lands will be exchanged for private land within the Crow Indian Reservation in Big Horn and Yellowstone Counties. The Federal land is legally described as follows:

| Acres
Blaine County
T. 31 N., R. 25 E., PMM
Sec. 21, lots 2 and 5; | 73.21
Sec. 23, lot 4; | 34.06
Sec. 26, lots 1 and 6; | 8.19
Sec. 27, lot 1; | 6.06
Sec. 28, lot 1. | 13.44
Chouteau County
T. 23 N., R. 15 E., PMM
Sec. 24, NW¼ SW¼; | 40.00
Sec. 25, NE¼NW¼. | 40.00
Rosebud County
T. 4 N., R. 43 E., PMM
Sec. 22, All; | 640.00
Sec. 26, N½N½; | 160.00
Sec. 28, lots 3 and 4, E½SW¼, SE¼; | 326.58
Sec. 32, SE¼NW¼; | 40.00
Sec. 34, All. | 640.00
Valley County
T. 23 N., R. 34 E., PMM
Sec. 14, E½NW¼. | 80.00

Disposal of the Federal land described above was not analyzed in the aforementioned RMPs and their associated Environmental Impact Statements. Disposal of the Federal land requires that the specific tracts be identified in the land use plan with the criteria to be met for exchange and discussion of how the criteria have been satisfied. This will be part of the plan amendment and an Environmental Assessment will be prepared to analyze the effects of disposal.

DATES: Comments and recommendations on this Notice to Amend the Judith-Valley-Phillips RMP, the West HiLine RMP, and the Powder River Resource Area RMP should be received on or before September 25, 2000.

ADDRESSES: Comments should be sent to BLM Montana State Director, Attention: Russ Sorensen, P.O. Box 36800, Billings, Montana 59107-6800.

FOR FURTHER INFORMATION CONTACT: Russ Sorensen, Realty Specialist, 406-683-8036.

Dated: August 15, 2000.
Howard A. Lemm,
Acting Deputy State Director, Division of Resources.

[FR Doc. 00-21830 Filed 8-25-00; 8:45 am]

BILLING CODE 4310-$$-P